DEPARTMENT OF ENERGY

Federal Energy Regulatory Commission

[Docket No. RP03-61-000]

Gulf States Transmission Corporation; Notice of Proposed Changes in FERC Gas Tariff

November 6, 2002.

Take notice that on November 1, 2002, Gulf States Transmission Corporation (Gulf States) tendered for filing as part of its FERC Gas Tariff, Original Volume No. 1, certain tariff sheets listed on Appendix A to the filing with an effective date of October 1, 2002.

Gulf States states that the filing is being made to reflect sequential pagination of tariff sheets that were accepted by the Commission on September 25, 2002 in Gulf States Order No. 637 compliance filing and accepted on September 27, 2002 in Gulf States Order No. 587-O compliance filing.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-28783 Filed 11-12-02; 8:45 am]

BILLING CODE 6717-01-P